DEPARTMENT OF ENERGY

[[OE Docket No. EA-390]

Application To Export Electric Energy; Global Pure Energy, LLC

AGENCY: Office of Electricity Delivery and Energy Reliability, DOE.

ACTION: Notice of application.

SUMMARY: Global Pure Energy, LLC (Global Pure Energy) has applied for authority to transmit electric energy from the United States to Mexico pursuant to section 202(e) of the Federal Power Act (FPA).

DATES: Comments, protests, or motions to intervene must be submitted on or before February 13, 2014.

ADDRESSES: Comments, protests, or motions to intervene should be addressed to: Michael Rodrigue, Office of Electricity Delivery and Energy Reliability, Mail Code: OE-20, U.S. Department of Energy, 1000 Independence Avenue SW., Washington, DC 20585-0350. Because of delays in handling conventional mail, it is recommended that documents be transmitted by overnight mail, by electronic mail to Michael.Rodrigue@hq.doe.gov, or by facsimile to 202-586-8008.

FOR FURTHER INFORMATION CONTACT: Michael Rodrigue (Program Office) at 202-586-2942, or by email at Michael.Rodrigue@hq.doe.gov.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the Federal Power Act (16 U.S.C. 824a(e)).

On December 23, 2013, DOE received an application from Global Pure Energy for authority to transmit electric energy from the United States to Mexico for five years using existing international transmission facilities. Global Pure Energy states that it does not own, operate, or control any electric transmission facilities, nor is it affiliated with other transmission or distribution facilities within the United States.

Global Pure Energy states that the energy it proposes to export to Mexico will be surplus energy purchased from wholesale markets within Texas. Global Pure Energy further states that any such export transactions will be completed through ERCOT (The Energy Reliability Council of Texas), will use ERCOT's transmission scheduling procedures and market structures, and will be coordinated with the Comision Federal de Electricidad (CFE) in Mexico. Global Pure Energy states that the existing international transmission facilities that it proposes to utilize have been authorized by Presidential permits issued pursuant to Executive Order 10485, as amended, and are appropriate for open access transmission by third parties.

Procedural Matters: Any person desiring to be heard in this proceeding should file a comment or protest to the application at the address provided above. Protests should be filed in accordance with Rule 211 of the Federal Energy Regulatory Commission's (FERC) Rules of Practice and Procedures (18 CFR 385.211). Any person desiring to become a party to these proceedings should file a motion to intervene at the above address in accordance with FERC Rule 214 (18 CFR 385.214). Five copies of such comments, protests, or motions to intervene should be sent to the address provided above on or before the date listed above.

Comments on the Global Pure Energy application to export electric energy to Mexico should be clearly marked with OE Docket No. EA-390. An additional copy is to be provided directly to Richard Edward Garza, Vice President, Global Pure Energy, LLC, 3200 Southwest Freeway, Suite 3300, Houston, TX 77027. A final decision will be made on this application after the environmental impacts have been evaluated pursuant to DOE's National Environmental Policy Act Implementing Procedures (10 CFR Part 1021) and after a determination is made by DOE that the proposed action will not have an adverse impact on the sufficiency of supply or reliability of the U.S. electric power supply system.

Copies of this application will be made available, upon request, for public inspection and copying at the address provided above, by accessing the program Web site at http://energy.gov/node/11845, or by emailing Angela Troy at Angela.Troy@hq.doe.gov.

Issued in Washington, DC, on January 8, 2014.
Brian Mills,
Director, Permitting and Siting, Office of Electricity Delivery and Energy Reliability.

[FR Doc. 2014-00512 Filed 1-13-14; 8:45 am]

BILLING CODE 6450-01-P